Title 3—

The President

Proclamation 7886 of April 14, 2005

Small Business Week, 2005

By the President of the United States of America

A Proclamation

America's economy is the most prosperous in the world, and the small business sector is one of its great strengths. During Small Business Week, we honor small business owners and workers, and we reaffirm our commitment to keeping America the best place in the world to do business.

Our economy is strong and growing stronger. More Americans are working today than ever before. The unemployment rate is lower than the average rate of the 1970's, 1980's, and 1990's. Homeownership is at a record high. Family incomes are rising. Small businesses are at the heart of this growth, creating most new private-sector jobs in our economy and helping our citizens succeed.

My Administration is committed to keeping small businesses vibrant and strong. We provided tax relief and streamlined tax reporting requirements for small businesses. We are working to reduce the burden of unnecessary regulation and excessive litigation. We are working to make health care more available and affordable. We are opening up markets for U.S. products through free trade agreements and by enforcing existing trade laws. And we have promoted a culture of ownership so that more people can own their own homes and start their own businesses.

As small business owners and employees add to the vitality of our economy, they also inspire others to realize the full promise of our Nation. I join all Americans in celebrating the entrepreneurial spirit and hard work of our small business owners and employees.

NOW, THEREFORE, I, GEORGE W. BUSH, President of the United States of America, by virtue of the authority vested in me by the Constitution and laws of the United States, do hereby proclaim April 24 through April 30, 2005, as Small Business Week. I call upon all the people of the United States to observe this week with appropriate ceremonies, activities, and programs that celebrate the achievements of small business owners and their employees and encourage and foster the development of new small businesses.

IN WITNESS WHEREOF, I have hereunto set my hand this fourteenth day of April, in the year of our Lord two thousand five, and of the Independence of the United States of America the two hundred and twenty-ninth.

B

[FR Doc. 05-7843

Filed 4-15-05; 9:12 am]

Billing code 3195-01-P